ENVIRONMENTAL PROTECTION AGENCY

[EPA-HQ-OPP-2008-0046; FRL-8376-8]

Notice of Receipt of Several Pesticide Petitions Filed for Residues of Pesticide Chemicals in or on Various Commodities

AGENCY: Environmental Protection Agency (EPA).

ACTION: Notice.

SUMMARY: This notice announces the Agency's receipt of several initial filing of pesticide petitions proposing the establishment or modification of regulations for residues of pesticide chemicals in or on various commodities

DATES: Comments must be received on or before September 12, 2008.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person is listed at the end of each pesticide petition summary and may be contacted by telephone or e-mail. The mailing address for each contact person listed is: Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What Action is the Agency Taking?

EPA is announcing its receipt of several pesticide petitions filed under section 408 of the Federal Food, Drug, and Cosmetic Act (FFDCA), 21 U.S.C. 346a, proposing the establishment or modification of regulations in 40 CFR part 180 for residues of pesticide chemicals in or on various food commodities. EPA has determined that the pesticide petitions described in this document contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of each of the petitions that are the subject of this notice, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 8E7386. (EPA-HQ-OPP-2008-0589). Interregional Research Project Number 4 (IR-4), 500 College Rd. East, Suite 201 W, Princeton, NJ 08540, proposes to establish a tolerance for residues of the insecticide, buprofezin, in or on coffee at 0.35 parts per million (ppm) and pomegranates at 1.9 ppm. The proposed analytical method involves extraction, partition, clean-up and detection of residues by gas chromatography using nitrogen phosphorous detection. This summary has been prepared by Nichino America, Inc., Wilmington, DE 19808, the registrant. Contact: Susan Stanton, (703) 305-5218, stanton.susan@epa.gov.

2. PP 7F7215. (EPA-HQ-OPP-2008-0567). Mitsui Chemicals, Inc., Shiodome City Center, 1-5-2, Higashi-Shimbashi, Minato-ku, Tokyo, Japan 105-7117 c/o Landis International, Inc., P.O. Box 5126, 3185 Madison Hwy., Valdosta, GA 31603-5126, proposes to establish a tolerance for residues of the insecticide, etofenprox, [2-(4-ethoxyphenyl)-2-methylpropyl 3-phenoxybenzyl ether], and the metabolite, α-CO i.e. [2-(4-ethoxyphenyl)-2-methylpropyl 3-phenoxybenzoate], in or on rice grain at 0.01 ppm and rice straw at 0.06 ppm. Mitsui Chemicals, Inc., has submitted practical analytical methodology for detecting and measuring levels of Etofenprox and the metabolite, α-CO i.e. [2-(4-ethoxyphenyl)-2-methylpropyl 3-phenoxybenzoate], in or on raw agricultural commodities. The high performance liquid chromatography (HPLC) method was validated for determination of etofenprox and α-CO in or on rice grain and straw for raw agricultural commodity matrices. Samples were processed and analyzed for the determination of etofenprox and α-CO using HPLC with mass spectrum detection (LC/MS/MS) for final quantitation. The target limit of quantitation (LOQ) was 0.01 ppm for all matrices. Contact: Kevin Sweeney, (703) 305-5063, sweeney.kevin@epa.gov.

3. PP 8F7349. (EPA-HQ-OPP-2007-0975). E.I. DuPont de Nemours and Company, DuPont Crop Protection, P.O. Box 30, Newark, DE 19714-0030, proposes to establish a tolerance for residues of the insecticide, methomyl (S-methyl N-[(methylcarbamoyl)oxy] thioacetimidate), in or on grapes, table at 1.5 ppm; grapes, juice at 5.0 ppm; grapes, raisin at 5.0 ppm; and grapes, wine at 5.0 ppm. Adequate analytical methodology is available for data collection and enforcing tolerances of methomyl. Method I in the Pesticide Analytical Manual (PAM), Vol. II, is a gas liquid chromatography (GLC)/sulfur microcoulometric detection method that has undergone a successful EPA method validation on corn, leafy vegetables, and fruiting vegetables. The limit of detection is 0.02 ppm for plant commodities. A (HPLC)/fluorescence detection method (Method AMR 3015-94) has also been proposed as an enforcement method. This method has undergone a successful EPA method validation using dry pea seeds, sorghum hay, and sugar beet foliage. The validated limit of quantitation is 0.02 ppm. Both the GLC and the HPLC methods allow for monitoring crops with residues at or above tolerance levels. Contact: Thomas C. Harris, (703) 308-9423, harris.thomas@epa.gov.

4. PP 8G7357. (EPA-HQ-OPP-2008-0570). Chemtura Corporation, 199 Benson Rd., Middlebury, CT 06749, proposes to establish a tolerance for residues of the insecticide, bifenazate: hydrazine carboxylic acid, 2-(4-methoxy-[1,1'-biphenyl]-3-yl) 1-methylethyl ester, in or on corn, grain at 0.02 parts per million (ppm); sweet corn (K+CWHR) at 0.05 ppm; corn, forage at 25 ppm; corn, stover at 13 ppm; and aspirated grain fractions at 0.7 ppm. Chemtura Corporation has developed practical analytical methodology for detecting and measuring residues of bifenazate in or on raw agricultural commodities (RAC). As D3598, a significant metabolite, was found to interconvert readily to/from bifenazate, the analytical method was designed to convert all residues of D3598 to the parent compound (bifenazate) for analysis. The method utilizes reversed phase HPLC to separate the bifenazate from matrix derived interferences, and oxidative coulometric electrochemical detection for the identification and quantification of this analyte. Using this method the LOQ for bifenazate in corn matrices and processed commodities was 0.01 ppm. The limit of detection (LOD) for the method is set at 0.005 ppm. For corn RAC and processed commodities, the method has also been validated by liquid chromatography/mass spectrometry/mass spectrometry (LC-MS/MS), and used for the confirmation of residues. The analytical method for bifenazate and its major metabolite D3598 in animal tissues was designed using the same principles invoked in the plant method, with minor modifications. However, in animal tissue samples, a separate aliquot of the extract was used to determine residues of A1530 and its sulfate (combined) in milk and meat samples (as these metabolites appeared to be significant in the goat metabolism studies). The extract was subjected to acid hydrolysis to convert the sulfate conjugate to A1530 before it was quantified by LC-MS/MS. Another metabolite, D9569, was also monitored in milk by LC-MS/MS. Contact: Amer Al-Mudallal, (703) 605-0566, al-mudallal.amer@epa.gov.

Amendment to Existing Tolerance

PP 8F7349. (EPA-HQ-OPP-2007-0975). E.I. DuPont de Nemours and Company, DuPont Crop Protection, P.O. Box 30, Newark, DE 19714-0030, proposes to delete the tolerance in 40 CFR 180.253 for residues of the insecticide, methomyl (S-methyl N-[(methylcarbamoyl)oxy] thioacetimidate), in or on grape at 5 ppm. Contact: Thomas C. Harris, (703) 308-9423, harris.thomas@epa.gov.

New Exemption from an Inert Tolerance

PP 8E7397. (EPA-HQ-OPP-2008-0571). Keller and Heckman LLP, 1001 G St., NW, Suite 500, Washington, DC 20001 as U. S. agent for Eka Chemicals AB, 455 80 Bobus, Sweden, proposes to establish an exemption from the requirement of a tolerance in 40 CFR 180.960 for residues of the silane, trimethoxy[3-oxiranylmethoxy)propyl]-, hydrolysis products with silica; (CAS No. 68584-82-7) in or on the raw agricultural commodities when used as a pesticide inert ingredient in pesticide formulations. Because this petition is a request for an exemption from the requirement of a tolerance, no analytical method is required. Contact: Karen Samek, (703) 347-8825, samek.karen@epa.gov.

List of Subjects

Environmental protection, Agricultural commodities, Feed additives, Food additives, Pesticides and pests, Reporting and recordkeeping requirements.

Dated: August 4, 2008.
Donald R. Stubbs,
Acting Director, Registration Division, Office of Pesticide Programs.

[FR Doc. E8-18608 Filed 8-12-08; 8:45 am]

Billing Code 6560-50-S